FEDERAL ACCOUNTING STANDARDS ADVISORY BOARD

Notice of Revised Exposure Draft Accounting for Fiduciary Activities

Board Action: Pursuant to 31 U.S.C. 3511(d), the Federal Advisory Committee Act (Pub. L. 92-463), as amended, and the FASAB Rules of Procedure, as amended in April 2004, notice is hereby given that the Federal Accounting Standards Advisory Board (FASAB) has issued a revised exposure draft, Accounting for Fiduciary Activities. The proposed Exposure Draft would enhance reporting on fiduciary activities by clarifying the definition of fiduciary activities, reducing the number of acceptable approaches to accounting for these activities, and ensuring adequate disclosure in notes to the financial statements.

The Exposure Draft is available on the FASAB home page http://www.fasab.gov/exposuredraft.htm. Copies can be obtained by contacting FASAB at (202) 512-7350. Respondents are encouraged to comment on any part of the exposure draft. Written comments are requested by August 30, 2005, and should be sent to: Wendy M. Comes, Executive Director, Federal Accounting Standards Advisory Board, 441 G Street, NW., Suite 6814, Mail Stop 6K17V, Washington, DC 20548.

A public hearing on the proposed standard has been scheduled for August 17, 2005.

FOR FURTHER INFORMATION CONTACT: Wendy Comes, Executive Director, 441 G Street, NW., Washington, DC 20548, or call (202) 512-7350.

Authority: Federal Advisory Committee Act, Pub. L. 92-463.

Dated: June 29, 2005.
Charles Jackson,
Federal Register Liaison Officer.

[FR Doc. 05-13213 Filed 7-5-05; 8:45 am]

BILLING CODE 1610-01-M